ENVIRONMENTAL PROTECTION AGENCY

[FRL-10021-32-Region 9]

Public Water System Supervision Program Revisions for the Navajo Nation

AGENCY: Environmental Protection Agency (EPA).

ACTION: Notice of tentative approval.

SUMMARY: Notice is hereby given that the Navajo Nation revised its approved Public Water System Supervision (PWSS) Program under the federal Safe Drinking Water Act (SDWA) by adopting the Radionuclides Rule. The Environmental Protection Agency (EPA) has determined that these revisions by the Navajo Nation are no less stringent than the corresponding Federal regulations and otherwise meet applicable SDWA primacy requirements. Therefore, the EPA intends to approve the stated revisions to the Navajo Nation's PWSS Program.

DATES: A request for a public hearing must be received or postmarked before April 19, 2021.

ADDRESSES: All documents relating to this determination are available online at http://www.navajoepa.org. Should you have difficulty accessing the website, please contact Yolanda Barney, Navajo PWSS Program, at (928) 871-7715; or via email at ybarney@navajopublicwater.org.

FOR FURTHER INFORMATION CONTACT: Adam Ramos, EPA Region 9, Drinking Water Section (WTR-4-1), 75 Hawthorne Street, San Francisco, CA 94105; via telephone at (415) 972-3450; or via email address at ramos.adam@epa.gov.

SUPPLEMENTARY INFORMATION: Background. The EPA approved the Navajo Nation's initial application for PWSS Program primary enforcement authority (“primacy”) on October 23, 2000 (65 FR 66541). Since initial approval, EPA has approved various revisions to Navajo Nation's PWSS Program. For the revisions covered by this action, the EPA revised the Radionuclides Rule on December 7, 2000 (66 Fed. Reg 76708). The revisions set new monitoring provisions for community water systems (CWS), retain the existing MCLs for combined radium-226 and radium-228, gross alpha particle radioactivity, beta particle and photon activity, and regulate uranium for the first time. EPA has determined that the Radionuclides Rule requirements were incorporated by reference into the Navajo Nation Primary Drinking Water Regulations, Part II Maximum Contaminant Levels, Part IV Sampling and Analytical Requirements and Appendix B—Public Notification of Drinking Water Violations and Appendix F—Consumer Confidence Report, in a manner that Navajo Nation's regulations are comparable to and no less stringent than the federal requirements. Therefore, EPA intends to approve these revisions as part of Navajo Nation's PWSS Program.

Public Process. Any interested party may request a public hearing on this determination. A request for a public hearing must be received or postmarked by April 19, 2021, and addressed to the Regional Administrator of EPA Region 9, via the following email address: R9dw-program@epa.gov. The Regional Administrator (RA) may deny frivolous or insubstantial requests for a hearing. If a substantial request for a public hearing is made by April 19, 2021, EPA Region 9 will hold a public hearing. Any request for a public hearing shall include the following information: 1. The name, address, and telephone number of the individual, organization, or other entity requesting a hearing; 2. A brief statement of the requesting person's or organization's interest in the RA's determination and a brief statement of the information that the requesting person intends to submit at such hearing; and 3. The signature of the individual making the request, or, if the request is made on behalf of an organization or other entity, the signature of a responsible official of the organization or other entity.

If EPA Region 9 does not receive a timely and substantive request for a hearing and the Regional Administrator does not elect to hold a hearing on her own motion, the determination at issue in this notice, the EPA's approval shall become final and effective on April 19, 2021, and no further public notice will be issued.

Authority: Section 1413 of the Safe Drinking Water Act, 42 U.S.C. 300g-2 (1996), and 40 CFR part 142 of the National Primary Drinking Water Regulations.

Dated: March 11, 2021.
Deborah Jordan,
Acting Regional Administrator, EPA Region 9.

[FR Doc. 2021-05569 Filed 3-17-21; 8:45 am]

BILLING CODE 6560-50-P